DEPARTMENT OF THE INTERIOR

Fish and Wildlife Service

Final Environmental Impact Statement and Comprehensive Conservation Plan for Upper Mississippi River National Wildlife and Fish Refuge in Illinois, Iowa, Minnesota, and Wisconsin

AGENCY: Fish and Wildlife Service, Interior.

ACTION: Notice of availability of record of decision.

SUMMARY: We, the U.S. Fish and Wildlife Service, announce our decision and the availability of the Record of Decision (ROD) for the Final Environmental Impact Statement (EIS) and Comprehensive Conservation Plan (CCP) for Upper Mississippi River National Wildlife and Fish Refuge in accordance with National Environmental Policy Act requirements (NEPA).

ADDRESSES: The ROD and Final EIS/CCP may be viewed at Upper Mississippi River National Wildlife and Fish Refuge Headquarters or at Refuge District Offices in Winona, Minnesota; La Crosse, Wisconsin; McGregor, Iowa; and Savanna, Illinois. You may obtain a copy of the ROD on the planning Web site at http://www.fws.gov/midwest/planning/uppermiss or by writing to: U.S. Fish and Wildlife Service, Division of Conservation Planning, Bishop Henry Whipple Federal Building, 1 Federal Drive, Fort Snelling, Minnesota 55111.

FOR FURTHER INFORMATION CONTACT: Don Hultman, (507) 452-4232.

SUPPLEMENTARY INFORMATION: We, the U.S. Fish and Wildlife Service, announce our decision and the availability of the Record of Decision (ROD) for the Final Environmental Impact Statement (EIS) and Comprehensive Conservation Plan (CCP) for Upper Mississippi River National Wildlife and Fish Refuge in accordance with NEPA requirements (40 CFR 1506.6(b)). We completed a thorough analysis of the environmental, social, and economic considerations, which we included in the Final EIS/CCP. We released the Final EIS/CCP to the public and a published a notice of availability in the Federal Register (71 FR 39125, July 11, 2006). The ROD documents the selection of Alternative E, the Preferred Alternative in the Final EIS/CCP, with one modification. The ROD was signed by the Regional Director, U.S. Fish and Wildlife Service, Midwest Region, on August 24, 2006.

The CCP for the Upper Mississippi River National Wildlife and Fish Refuge (Refuge) will guide the management and administration of the Refuge for the next 15 years. Alternative E, as described in the Final EIS, is the foundation for the CCP, with one modification. The modification designates 215 acres west of the Rieck's Lake area of Pool 4, in the area between Highway 35 and the railroad tracks, as a No Hunting Zone to avoid impacts to persons using the Buffalo River Access, access to the main river, and anglers desiring to fish in the area.

Four alternatives and their consequences were developed for the Draft EIS and CCP. A fifth alternative, Alternative E, was developed based on extensive public input and comment, and was released as a Supplement to the Draft EIS (71 FR 2561, January 17, 2006).

Alternative A—No Action or Current Direction. Continue current level of effort on fish and wildlife and habitat management. Public use programs would remain virtually unchanged.

Alternative B—Wildlife Focus. Increase level of effort on fish and wildlife and habitat management. Some public use opportunities and programs would remain the same, others reduced in favor of wildlife and habitat protection.

Alternative C—Public Use Focus. Increase level of effort on public use opportunities and programs. Continue current level of effort on many fish and wildlife and habitat management activities, and decrease effort on others in favor of public use.

Alternative D—Wildlife and Integrated Public Use Focus. Increase level of effort on fish and wildlife and habitat management. Take a more proactive approach to public use management to ensure a diversity of opportunities for a broad spectrum of users, both for wildlife-dependent uses and traditional and appropriate non-wildlife-dependent uses.

Alternative E—Modified Wildlife and Integrated Public Use Focus (Preferred Alternative). Increase level of effort on fish and wildlife and habitat management. Take a proactive but balanced approach to public use management to ensure a diversity of opportunities for a broad spectrum of users, both for wildlife-dependent uses and traditional and appropriate non-wildlife-dependent uses.

Elements common to all alternatives included interagency coordination, agency access to restricted areas, NEPA compliance for projects (42 U.S.C. 4371 et seq. and 40 CFR 1500-1508), protection of threatened and endangered species and cultural resources, fire management, a continuation of general water-based recreation, mosquito management in the event of a health emergency, fish and wildlife disease control, and the fostering of volunteers and friends groups.

The Service's Basis for Decision: Based on a review of the environmental consequences of each alternative, we judged Alternative E to be the environmentally preferable alternative. Although all alternatives have positive physical and biological environmental consequences, Alternatives D and E also address a variety of social, economic, and cultural issues. Alternative E is the most positive in terms of addressing human environmental issues, because it reflects input received during scores of public meetings and workshops, and through several thousand written comments. The Final EIS identified three broad needs: (1) Contribute to the Refuge System mission; (2) fulfill the purposes of the Refuge; and (3) achieve Refuge goals for landscape conservation, environmental health, wildlife and habitat health, and recreation. Alternative E meets these needs through the most balanced and integrated approach. Alternative E reflects substantive changes to earlier preferred alternatives. These changes were in response to agency review and comment, 30 public meetings and workshops on the draft documents, and more than 3,000 written comments. Alternative E in the Final EIS is the alternative most responsive to agency and public comment and suggestion. It identifies objectives and strategies for completing land acquisition, habitat improvements, water quality improvements, invasive species control, fish and wildlife monitoring, and forest management, and providing targeted resting and feeding areas for waterfowl and other wildlife. These measures will help ensure the biological health of the Refuge beyond the 15-year scope of the CCP. Alternative E also strikes a balance between the needs of fish and wildlife and needs of people for recreation through reasonable restrictions on a portion of the Refuge. This approach may prove more sustainable, both in terms of resource values and economic values, than the status quo, and help sustain the greatest diversity of opportunity for the greatest number of people. Alternative E reflects a large body of scientific and management knowledge and experience on the river environment and the needs of the system to improve and thrive. It reflects numerous studies and reports from the U.S. Geological Survey, States, interagency teams, and Refuge-specific monitoring and studies. Changes in public use programs reflect numerous studies on wildlife and human interaction and disturbance, and the latest thinking in recreation management. The Refuge Improvement Act of 1997 (Pub. L. 105-57) requires that all uses on a national wildlife refuge must be compatible with the purposes of the refuge and the mission of the Refuge System. Alternative E, with its various stipulations for certain uses, ensures that these uses remain compatible. All current recreational uses (e.g., hunting, fishing, observation and photography, and interpretation and environmental education) and wildlife-dependent economic uses (e.g., commercial fishing, guiding, fishing tournaments, and trapping) will continue, and opportunities will remain abundant in terms of the amount of land and water available and seasons of use. Adjustments in time, space, and period of use will help ensure the highest quality experience for the greatest number of users, and ensure each use remains compatible. Recreation is the main economic driver on the Refuge, and Alternative E will continue to have a positive economic impact since all current public use opportunities will continue, and are expected to grow, even though means, timing, and location of recreation will change in some areas to protect wildlife, habitat, and the recreation experience. In the long -term, providing for a greater diversity of recreational opportunities should strengthen local and regional economies. Alternative E identifies staffing needs tied to objectives and strategies to increase the capacity of the Refuge to meet its purpose and the Refuge System mission. Alternative E also addresses infrastructure needs for effective and efficient administration and management of the Refuge while serving the needs of the visiting public. Although differences of opinion will remain, Alternative E is the strongest alternative in terms of fostering cooperative conservation. Virtually every objective and associated strategy in Alternative E stresses a cooperative approach with the States, the U.S. Army Corps of Engineers, and the public.

Public Comments on Final EIS: During the 30-day waiting period, we received 50 written comments. With one exception, the comments did not raise any issues not addressed in the Final EIS, and the comments did not result in changes to the analysis of environmental consequences or affect our response to similar comments in the Final EIS. The exception was a comment requesting retention of the Waterfowl Hunting Closed Area near Rieck's Lake, Pool 4, due to its proximity to residences, school bus stop locations, and a marina. This comment provided new information and resulted in the modification to Alternative E, as noted above. All written comments received during the waiting period are available for review at the Refuge headquarters in Winona, Minnesota (see ADDRESSES Section).

Measures to Minimize Environmental Harm: We addressed public concerns, potential impacts, and measures and stipulations to mitigate impacts in various sections of the Final EIS. We made 17 major changes to Alternative E between the Draft and Final EIS to mitigate public and agency concerns. Since the focus of the CCP is the improvement of the Refuge environment, there is little mitigation for physical environmental impacts. Also, many objectives in the CCP are programmatic in nature and local impacts unknown. Thus, we will identify mitigation for any project-specific impacts during detailed project planning and design. We prepared a biological assessment to address any impacts to federally-listed threatened or endangered species. The biological assessment concluded that implementation of Alternative E is not likely to appreciably reduce the survival and recovery of listed species. We also prepared compatibility determinations for all uses identified in Alternative E, and these determinations contain stipulations to avoid, minimize, or mitigate any environmental impacts from these uses and associated facilities. The Refuge Manager and District Managers will be responsible for ensuring that monitoring and stipulations identified in the CCP are completed or followed.

Dated: September 13, 2006.
Robyn Thorson,
Regional Director, U.S. Fish and Wildlife Service, Fort Snelling, Minnesota.

[FR Doc. E6-18470 Filed 11-1-06; 8:45 am]

BILLING CODE 4310-55-P